DEPARTMENT OF HEALTH AND HUMAN SERVICES

[Document Identifier: OS-0990-0001]

Agency Information Collection Request, 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: Application for Waiver of the 2-Year Foreign Residence Requirement of the Exchange Visitor Waiver Program, OMB No. 0990-0001—Extension, Office of the Secretary, Office of Global Health Affairs.

Abstract: The Office of Global Health Affairs is requesting an extension on a previous approved collection OMB #0990-0001—Application for Waiver of the 2-Year Foreign Residence Requirement of the Exchange Visitor Waiver Program. This form and supplementary information sheets is used by this Department to make a determination, in accordance with its published regulations, as to whether or not to request from the Department of State, a waiver of the two-year foreign residence requirement for applicants in the United States on a J-1 visa. The type of respondent is voluntary; the affected public is business for profit, not-for profit institutions, Federal Government, State, Local or Tribal Government

Estimated Annualized Burden Table
Forms | Type of respondent | Number of respondents | Number of responses per respondent | Average burden hours per response | Total burden hours
HHS-426 | Research Applications | 150 | 1 | 10 | 1500
HHS-426 | Clinical Care Research | 50 | 1 | 10 | 500
Total |  |  |  |  | 2000

Seleda Perryman,
Office of the Secretary, Paperwork Reduction Act Reports Clearance Officer.

[FR Doc. 2010-7445 Filed 4-1-10; 8:45 am]

BILLING CODE 4150-38-P